DEPARTMENT OF VETERANS AFFAIRS

Fund Availability Under VA Homeless Providers Grant and Per Diem Program

AGENCY: Department of Veterans Affairs.

ACTION: Notice.

SUMMARY: The Department of Veterans Affairs (VA) is announcing the availability of funds for currently operational VA Grant and Per Diem Special Need Grant Recipients in conjunction with their collaborative VA Special Need partners and currently operational VA Grant and Per Diem Special Need Grant Recipients which do not involve a collaborative effort to make re-applications for assistance under the Special Need Grant Component of VA's Homeless Providers Grant and Per Diem (GPD) Program. The focus of this NOFA is to encourage applicants to continue to deliver services to the homeless Special Need veteran population. This Notice contains information concerning the program, application process, and amount of funding available.

DATES: An original completed and collated grant application (plus three completed collated copies) for assistance under the VA's Homeless Providers Grant and Per Diem Program must be received in the Grant and Per Diem Field Office, by 4 p.m. Eastern Time on Wednesday, March 25, 2009. Applications may not be sent by facsimile (FAX). In the interest of fairness to all competing applicants, this deadline is firm as to date and hour, and VA will treat as ineligible for consideration any application that is received after the deadline. Applicants should take this practice into account and make early submission of their material to avoid any risk of loss of eligibility brought about by unanticipated delays, computer service outages (in the case of Grants.gov), or other delivery-related problems.

For a Copy of the Application Package: Download directly from VA's Grant and Per Diem Program Web page at: http://www.va.gov/homeless/page.cfm?pg=3 or call the Grant and Per Diem Program at (toll-free) 1-877-332-0334. In this package is information on Grants.gov submission should applicants so desire. For a document relating to the VA's Homeless Providers Grant and Per Diem Program, see the final rule codified at 38 CFR Part 61.0.

Submission of Application: An original completed and collated grant application (plus three copies) must be submitted to the following address: VA Homeless Providers Grant and Per Diem Field Office, 10770 N. 46th Street, Suite C-200, Tampa, FL 33617. Applications must be received in the Grant and Per Diem Field office by the application deadline. This includes applications submitted through Grants.gov. Applications must arrive as a complete package. Materials arriving separately will not be included in the application package for consideration and may result in the application being rejected or not funded.

FOR FURTHER INFORMATION CONTACT: Ms. Chelsea Watson, VA Homeless Providers Grant and Per Diem Program, Department of Veterans Affairs, 10770 N. 46th Street, Suite C-200, Tampa, FL 33617; (toll-free) 1-877-332-0334.

SUPPLEMENTARY INFORMATION: This Notice announces the availability of funds for assistance under VA's Homeless Providers Grant and Per Diem Program for currently operational Grant and Per Diem Special Need recipients and their collaborative VA partners to obtain grant assistance with additional operational costs that would not otherwise be incurred but for the fact that the recipient is providing supportive housing beds and services for the Special Needs of the centers for the following homeless veteran populations:

Women, including women who have care of minor dependents;

Frail elderly;

Terminally Ill; or

Chronically mentally ill.

Definitions of these populations are contained in 38 CFR 61.1 Definitions. Eligible applicants should review these definitions to ensure their proposed populations meet the specific requirements.

VA is pleased to issue this Notice of Fund Availability (NOFA) for the Homeless Providers Grant and Per Diem Program as a part of the effort to end chronic homelessness among our nation's veterans. Funding applied for under this Notice may be used for: the provision of service, operation, or personnel to facilitate the following with regard to the targeted group:

Women, Including Women Who Have Care of Minor Dependents

(1) Ensure transportation for women and their children, especially for health care and educational needs;

(2) Provide directly or offer referrals for adequate and safe child care;

(3) Ensure children's health care needs are met especially age appropriate wellness visits and immunizations; and

(4) Address safety and security issues including segregation procedures from other program participants if deemed appropriate.

Frail Elderly

(1) Ensure the safety of the residents in the facility to include preventing harm and exploitation;

(2) Ensure opportunities to keep residents mentally and physically agile to the fullest extent through the incorporation of structured activities, physical activity, and plans for social engagement within the program and in the community;

(3) Provide opportunities for participants to address life transitional issues and separation and/or loss issues;

(4) Provide access to assistance devices such as walkers, grippers, or other devices necessary for optimal functioning;

(5) Ensure adequate supervision, including supervision of medication and monitoring of medication compliance; and

(6) Provide opportunities for participants either directly or through referral for other services particularly relevant for the frail elderly, including services or programs addressing emotional, social, spiritual, and generative needs.

Terminally Ill

(1) Help participants address life-transition and life-end issues;

(2) Ensure that participants are afforded timely access to hospice services;

(3) Provide opportunities for participants to engage in “tasks of dying,” or activities of “getting things in order” or other therapeutic actions that help resolve end of life issues and enable transition and closure;

(4) Ensure adequate supervision including supervision of medication and monitoring of medication compliance; and

(5) Provide opportunities for participants either directly or through referral for other services particularly relevant for terminally ill such as legal counsel and pain management.

Chronically Mentally Ill

(1) Help participants join in and engage with the community;

(2) Facilitate reintegration with the community and provide services that may optimize reintegration such as life-skills education, recreational activities, and follow up case management;

(3) Ensure that participants have opportunities and services for re-establishing relationships with family;

(4) Ensure adequate supervision, including supervision of medication and monitoring of medication compliance; and

(5) Provide opportunities for participants, either directly or through referral, to obtain other services particularly relevant for a chronically mentally ill population, such as vocational development, benefits management, fiduciary or money management services, medication compliance, and medication education.

VA is seeking, through this NOFA, to renew previous grant and per diem Special Need providers and their VA collaborative partners to continue to serve the Special Need veteran populations.

No part of a Special Need grant may be used for any purpose that would change significantly the scope of the specific grant and per diem project for which a capital grant and per diem was awarded. As a part of the review process, VA will review the original project and subsequent renewals as listed in the previous Special Need applications to ensure significant scope changes do not occur displacing other homeless veteran populations. VA may reject for Special Need Funding those applications that significantly alter the original scope (38 CFR Section 61.62).

A separate Special Need application is required for each previously funded grant and per diem project (identified by unique project number (see Application Requirements in this NOFA).

Special Need funding may not be used for capital improvements or to purchase vans or real property. However, the leasing of vans or real property may be acceptable. Questions regarding acceptability should be directed to VA's Grant and Per Diem Field Office (at the number listed above). Applicants may not receive Special Need Assistance to replace funds provided by any Federal, state or local government agency or program to assist homeless persons.

Authority: Funding applied for under this Notice is authorized by the “Homeless Veterans Comprehensive Assistance Act of 2001,” Public Law 107-95, § 5, codified as amended at 38 U.S.C. 2011, 2012, 2013, 2061, 2064. The program is implemented by the final rule codified at 38 CFR Part 61.0. The regulations can be found in their entirety in 38 CFR, Sec. 61.0 through 61.82. Funds made available under this Notice are subject to the requirements of those regulations.

Allocation: Approximately $10 million is available for current Special Need GPD grant component of this program. Funding will be for a period beginning on October 1, 2009 and ending on September 30, 2011. Applicants should ensure their funding requests are based on this 24 month period. As this NOFA is for renewal funding; applicant funding requests should be in line with prior expenditures. Based on Grant and Per Diem funding availability, approximately, $8 million is expected to be made available over the specified time (internally) for the current VA collaborative partners.

The goal is to the maximum extent possible ensure a continuation of Special Need services to homeless veterans and their VA collaborative partners.

It is important to be aware that VA places great emphasis on responsibility and accountability. VA has procedures in place to monitor services provided to homeless veterans and outcomes associated with the services provided in grant and per diem-funded programs. Applicants should be aware of the following:

Potential applicants should take into consideration, “Grant recipients that concurrently receive Special Needs and per diem payments shall not be paid more than 100 percent of the cost for the bed per day, product, operation, personnel, or service provided” (38 CFR 61.61(h)). Further, VA per diem payment is limited to the applicant's cost of care per eligible veteran minus other sources of payments to the applicant for furnishing services to homeless veterans up to the per day rate VA pays for State Home Domiciliary care. Awardees will be required to support their request for Special Needs and per diem payments with adequate fiscal documentation as to program income and expenses.

All awardees that are conditionally selected in response to this NOFA must meet the requirements of the current edition of the Life Safety Code of the National Fire Protection Association as it relates to their specific facility. Applicants should note that all facilities are to be protected throughout by an approved automatic sprinkler system unless a facility is specifically exempted under the Life Safety Code. Applicants should make consideration of this when submitting their grant applications as no additional funds will be made available for capital improvements under this NOFA. VA will conduct an inspection prior to awardees being able to submit request for payment to ensure this requirement is met.

Each grant awardee will have the VA liaison that was appointed for its corresponding grant and per diem program monitor services to ensure the Special Need grant is being met and will include at least an annual review of each program's progress toward meeting internal goals and objectives in helping the Special Need homeless veterans as identified in each applicant's original Special Need application. Monitoring for all participants will include a review of the agency's income and expenses as they relate to this project to ensure per diem and Special Need payments are accurate.

Monitoring of Homeless Special Need participants and services provided by GPD recipients will be accomplished according to NEPEC procedure. These monitoring procedures will be used to determine successful accomplishment of outcomes for each collaborative partnership.

Funding Priorities: None

Agreement and Funding Actions: Conditionally selected applicants will complete a funding agreement with VA in accordance with 38 CFR Section 61.61 and provide any additional information as required by VA. Upon signature by the Secretary or designated representative final selection will be completed.

Funding for operational grant and per diem applicants that are finally selected will not exceed the period specified in this NOFA. A condition to obtain the Special Need Grant is for the applicant to maintain the original (grant or per diem) program for which the Special Need grant is sought.

Application Requirements: A separate application is needed for each project number, which you are requesting Special Needs Funding. In addition, current Special Need recipients should also list their Special Need Project number. A project number is the last two digits of the year funded, the sequence the application was received, and the state abbreviation for the project location, (i.e., 00-125-MA would have been funded in the year 2000, the 125th application received, and the project is located in Massachusetts). If you do not know your project number call VA's Grant and Per Diem Field Office (toll-free) at 1-877-332-0334.

The grant application requirements are specified in the application package and the following additional information is required by this NOFA.

a. Applicants should include in their submissions documentation of successful past performance.

b. If the previous Special Needs grant was a collaborative the submission must include the appropriate performance data from the VA collaborative partner that the VA met its objectives or provided its duties as outlined in the original MOA.

c. An updated MOA signed by the VAMC Director and the applicant agency Director specifying the collaborative and specific duties of the non-profit provider and those of the VA Medical Center that will be accomplished under this grant.

d. Complete new budgets for the provider and collaborative partner with costs based on past costs incurred and evidence of the same. Providers should take into consideration the 24 month period of award when calculating and submitting their budgets for this NOFA.

Applicants having questions with regard to the funding from previous Special Need awards should contact the Grant and Per Diem Field Office prior to application for this NOFA.

The package includes the applicant's required forms and certifications. Selections will be made based on criteria described in the application and additional information as specified in this NOFA.

Applicants who are selected will be notified of any further additional information needed to confirm or clarify information provided in the application. Applicants will then be notified of the deadline to submit such information. If an applicant is unable to meet any conditions for grant award within the specified time frame, VA reserves the right to not award funds and to use the funds available for other grant and per diem applicants.

Dated: January 15, 2009.
Gordon H. Mansfield,
Deputy Secretary of Veterans Affairs.

[FR Doc. E9-1508 Filed 1-22-09; 8:45 am]

BILLING CODE 8320-01-P